ENVIRONMENTAL PROTECTION AGENCY

[FRL-8162-5]

Science Advisory Board Staff Office Notification of Two Public Teleconferences and a Meeting of the Science Advisory Board Environmental Engineering Committee

AGENCY: Environmental Protection Agency (EPA).

ACTION: Notice.

SUMMARY: The EPA Science Advisory Board (SAB) Staff Office announces two public teleconferences and a face-to-face meeting of the SAB Environmental Engineering Committee to provide advice on the Sustainability Research Strategy and the associated multi-year research plan, Science and Technology for Sustainability.

Agendas and documents will be posted on the SAB Web site at: http://www.epa.gov/sab prior to the teleconferences and face-to-face meeting.

DATES: Public teleconferences of the SAB Environmental Engineering Committee will be held on Wednesday, May 17, 2006, from noon to 4 p.m. eastern time and Tuesday August 1, 2006 from 1 to 4 eastern time. The face-to-face public meeting will be held June 13-15, 2006, from 9 a.m. to 5:30 p.m. eastern standard time on the first two days, ending at 3 p.m. on the final day.

ADDRESSES: The public teleconferences will take place via telephone only. The public face-to-face meeting will be held at the SAB Conference Center, 1025 F Street, NW., Suite 3700, Washington, DC 20004.

FOR FURTHER INFORMATION CONTACT: General information concerning the SAB can be found on the SAB Web Site at: http://www.epa.gov/sab. Members of the public who wish to obtain the call-in number and access code for the teleconferences, or further information concerning the public face-to-face meeting may contact Ms. Kathleen White, Designated Federal Officer (DFO), by mail at EPA SAB Staff Office (1400F), U.S. EPA, 1200 Pennsylvania Avenue, NW., Washington, DC 20460; by telephone at (202) 343-9878; by fax at (202) 233-0643; or by e-mail at white.kathleen@epa.gov. Technical Contacts: For questions and information concerning the Sustainability Research Strategy, please contact Dr. Diana Bauer, U.S. Environmental Protection Agency, by telephone (202) 343-9759; or by e-mail bauer.diana@epa.gov. For questions and information concerning the multi-year research plan, Science and Technology for Sustainability, please contact Dr. Gordon Evans, U.S. Environmental Protection Agency, by telephone at (513) 569-7684; or by e-mail at evans.gordon@epa.gov.

SUPPLEMENTARY INFORMATION: The SAB was established by 42 U.S.C. 4365 to provide independent scientific and technical advice, consultation, and recommendations to the EPA Administrator on the technical basis for Agency positions and regulations. EPA's Office of Research and Development has requested the SAB to provide advice on EPA's Draft Sustainability Research Strategy its multi-year research plan. The Sustainability Research Strategy proposes a scientific framework for a more systematic and holistic approach to environmental protection that takes into consideration the complex nature of environmental issues and the welfare of future generations. The multi-year research plan describes ORD's research to meet the short-term and long-term goals of the Research Strategy.

The SAB Environmental Engineering Committee will provide this advice, augmented by other SAB members. Biosketches for the SAB participants will be posted at the SAB Web site. The Committee will comply with the provisions of the Federal Advisory Committee Act (FACA) and all appropriate SAB procedural policies.

The purpose of the May 17, 2006 teleconference is to prepare the Committee for the face-to-face meeting through briefings, a discussion of the charge, an opportunity to ask preliminary questions, and the identification of areas where additional information would be valuable. The purpose of the June 13-15, 2006, face-to-face meeting is for the Committee to reach consensus on the content of their response to the charge questions, to capture that consensus in writing, to brief the Agency on the major findings and conclusions, and to respond to Agency questions. As time allows, the Committee may also hear briefings, engage in planning for future activities, and engage in other committee business. The purpose of the August 1, 2006, teleconference is to provide the Committee with an opportunity to discuss the draft report and agree to final language or to additional changes needed. Subsequently, the Committee's report will be considered by the Board and transmitted to the Administrator.

Procedures for Providing Public Input: Members of the public may submit relevant written or oral information for the Environmental Engineering Committee to consider during the advisory process. Oral Statements: In general, individuals or groups requesting an oral presentation at a public teleconference will be limited to three minutes per speaker with no more than a total of thirty minutes for all speakers. In general, individuals or groups requesting an oral presentation at a face-to-face meeting will be limited to five to ten minutes with no more than two hours for all speakers. Those interested should contact Ms. White (preferably via e-mail) no later than May 10 for the May 17 teleconference, June 6 for the June 13-15 face-to-face meeting, and July 25 for the August 1 teleconference to be placed on the public speaker list. Written Statements: Written statements should be received in the SAB Staff Office at least seven days before the meeting so that the comments may be made available to the Committee for timely consideration. Comments should be supplied to the DFO in the following formats: one hard copy with original signature by mail, and one electronic copy by e-mail (acceptable file format: Adobe Acrobat PDF, WordPerfect, MSWord, MSPowerPoint or Rich Text files in IBM-PC/Windows 98/2000/XP format).

Accessibility: For information on access or services for people with disabilities, please contact Ms. Kathleen White at (202) 343-9878 or white.kathleen@epa.gov. To request accommodation of a disability, please contact Ms. White, preferably at least ten business days prior to the meeting, to give EPA as much time as possible to process your request.

Dated: April 21, 2006.
Anthony F. Maciorowski,
Associate Director for Science, EPA Science Advisory Board Staff Office.

[FR Doc. E6-6254 Filed 4-25-06; 8:45 am]

BILLING CODE 6560-50-P